ENVIRONMENTAL PROTECTION AGENCY

[FRL-9966-88-Region 2]

Proposed CERCLA Cost Recovery Settlement for the Wolff-Alport Superfund Site, Queens County, New York

AGENCY: Environmental Protection Agency (EPA).

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA, with the City of New York (“Settling Party”) concerning the Wolff-Alport Superfund Site (“Site”), located in Queens County, New York.

The Site includes portions of the former Wolff-Alport Chemical Company facility and nearby areas, including businesses, public sidewalks, city sewers, and nearby streets, where hazardous substances including radioactive contamination were disposed or have migrated. Settling Party is the owner of property which constitutes a portion of the Site.

DATES: Comments must be submitted on or before October 2, 2017.

ADDRESSES: The proposed settlement is available for public inspection at EPA Region 2 offices at 290 Broadway, New York, New York 10007-1866. Comments should reference the Wolff-Alport Superfund Site, Queens County, New York, Index No. CERCLA-02-2017-2009. To request a copy of the proposed settlement agreement, please contact the EPA employee identified below.

FOR FURTHER INFORMATION CONTACT: Jean Regna, Assistant Regional Counsel, New York/Caribbean Superfund Branch, Office of Regional Counsel, U.S. Environmental Protection Agency, 290 Broadway, 17th Floor, New York, NY 10007-1866. Email: regna.jean@epa.gov; Telephone: 212-637-3164.

SUPPLEMENTARY INFORMATION: The Settling Party agrees to pay EPA $659,037.00 in reimbursement of EPA's past response costs paid at or in connection with the Site. The settlement includes a covenant by EPA not to sue or to take administrative action against the Settling Party pursuant to Section 107(a) of CERCLA, 42 U.S.C. 9607(a), with regard to the response costs related to the work at the Site enumerated in the settlement agreement. For thirty (30) days following the date of publication of this notice, EPA will receive written comments relating to the proposed settlement. EPA will consider all comments received and may modify or withdraw its consent to the settlement if comments received disclose facts or considerations that indicate that the proposed settlement is inappropriate, improper, or inadequate. EPA's response to any comments received will be available for public inspection at EPA Region 2, 290 Broadway, New York, New York 10007-1866.

Dated: August 23, 2017.
John Prince,
Acting Director, Emergency and Remedial Response Division, U.S. Environmental Protection Agency, Region 2.

[FR Doc. 2017-18504 Filed 8-30-17; 8:45 am]

BILLING CODE 6560-50-P